DEPARTMENT OF THE INTERIOR

National Park Service

[NPS-WASO-NAGPRA-NPS0039322; PPWOCRADN0-PCU00RP14.R50000]

Notice of Intended Disposition: Naval Weapons Station, Yorktown, VA

AGENCY: National Park Service, Interior.

ACTION: Notice.

SUMMARY: In accordance with the Native American Graves Protection and Repatriation Act (NAGPRA), Naval Weapons Station Yorktown (NWSY) intends to carry out the disposition of human remains removed from Federal or Tribal lands to the lineal descendants, Indian Tribe, or Native Hawaiian organization with priority for disposition in this notice.

DATES: Disposition of the human remains in this notice may occur on or after February 18, 2025. If no claim for disposition is received by January 16, 2026, the human remains in this notice will become unclaimed human remains.

ADDRESSES: Mike Makin, Cultural Resources Manager at NWSY, 160 Main Road, Building 406, York County, VA 23691, telephone (757) 887-4148, email douglas.m.makin.civ@us.navy.mil.

SUPPLEMENTARY INFORMATION: This notice is published as part of the National Park Service's administrative responsibilities under NAGPRA. The determinations in this notice are the sole responsibility of NWSY and additional information on the human remains or cultural items in this notice, including the results of consultation, can be found in the related records. The National Park Service is not responsible for the identifications in this notice.

Abstract of Information Available

Based on the information available, human remains representing, at least, one individual have been reasonably identified. No associated funerary objects are present. These human remains were recovered on 9 April 2003 during archaeological excavations at 44YO0002, the site of the Woodland and Contact Period village of Kiskiak located at NWSY in York County, VA. They were recovered from a 1920s trench that disturbed an earlier period burial. Most of the burial was left undisturbed and only material from the trench was removed.

Determinations

NWSY has determined that:

• The human remains described in this notice represent the physical remains of one individual of Native American ancestry.

• The Pamunkey Indian Tribe has priority for disposition of the human remains described in this notice.

Claims for Disposition

Written claims for disposition of the human remains in this notice must be sent to the appropriate official identified in this notice under ADDRESSES. If no claim for disposition is received by January 16, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after February 18, 2025. If competing claims for disposition are received, NWSY must determine the most appropriate claimant prior to disposition. Requests for joint disposition of the human remains are considered a single request and not competing requests. NWSY is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 6, 2025.
Melanie O'Brien,
Manager, National NAGPRA Program.

[FR Doc. 2025-01013 Filed 1-15-25; 8:45 am]

BILLING CODE 4312-52-P